DEPARTMENT OF LABOR

Employment and Training Administration

[TA-W-65,522]

Bernhardt Furniture Company Corporate Office, Lenoir, NC; Notice of Termination of Investigation

Pursuant to Section 221 of the Trade Act of 1974, as amended, an investigation was initiated on March 9, 2009 in response to a petition filed on behalf of workers of Bernhardt Furniture Company, Corporate Office, Lenoir, North Carolina.

The petitioners have requested that the petition be withdrawn. Consequently, the investigation has been terminated.

Signed at Washington, DC, this 24th day of March 2009
Linda G. Poole,
Certifying Officer, Division of Trade Adjustment Assistance.

[FR Doc. E9-8294 Filed 4-10-09; 8:45 am]

BILLING CODE 4510-FN-P